DEPARTMENT OF COMMERCE

International Trade Administration

[C-570-017]

Countervailing Duty Order on Certain Passenger Vehicle and Light Truck Tires From the People's Republic of China: Amended Final Results of Countervailing Duty Administrative Review; 2014-2015

AGENCY: Enforcement and Compliance, International Trade Administration, Department of Commerce.

SUMMARY: The Department of Commerce (Commerce) is amending the final results of the countervailing duty administrative review of certain passenger vehicle and light truck tires (passenger tires) from the People's Republic of China (China) to correct ministerial errors. The period of review (POR) is December 1, 2014, through December 31, 2015.

DATES: Applicable May 2, 2018.

FOR FURTHER INFORMATION CONTACT: Andrew Huston, AD/CVD Operations, Office VII, Enforcement and Compliance, International Trade Administration, U.S. Department of Commerce, 1401 Constitution Avenue NW, Washington, DC 20230; telephone (202) 482-4261.

Background

In accordance with section 751(a)(1) of the Tariff Act of 1930, as amended (the Act), and 19 CFR 351.221(b)(5), on March 16, 2018, Commerce published its final results of the countervailing duty administrative review of passenger tires from China.¹ On March 15, 2018, Shandong Shuangwang Rubber Co., Ltd. (Shandong Shuangwang) submitted a request to correct a clerical error in the Final Results.² On March 28, 2018, GITI Tire Global Trading Pte. Ltd./GITI Tire (USA) Ltd./GITI Radial Tire (Anhui) Company Ltd. (GITI Anhui Radial)/GITI Tire (Fujian) Company Ltd (GITI Fujian)/GITI Tire (Hualin) Company Ltd. (GITI Hualin) (collectively, GITI) timely alleged that Commerce made four ministerial errors in the Final Results.³ No other parties submitted ministerial error allegations or comments on Shandong Shuangwang's or GITI's allegations.

¹ See Countervailing Duty Order on Certain Passenger Vehicle and Light Truck Tires from the People's Republic of China: Final Results of Countervailing Duty Administrative Review; 2014-2015, 83 FR 11694 (March 16, 2018) (Final Results).

² See Shandong Shuangwang's Letter, “Certain Passenger Vehicle and Light Truck Tires from the People's Republic of China—Request to Correct Clerical Error in Final Results of Countervailing Duty Administrative Review,” dated March 15, 2018 (Shandong Shuangwang Ministerial Comments).

³ See GITI's Letter, “Passenger Vehicle and Light Truck Tires from the People's Republic of China: Ministerial Error Comments—Giti Tire Global Trading Pte. Ltd.” dated March 28, 2018 (GITI Ministerial Comments).

Scope of the Order

The products covered by the order are certain passenger vehicle and light truck tires from China. A full description of the scope of the order is contained in the Ministerial Errors Memorandum.⁴

⁴ See Memorandum “Administrative Review of the Countervailing Duty Order on Certain Passenger Vehicle and Light Truck Tires from the People's Republic of China: Decision Memorandum for Amended Final Results,” dated concurrently and herby adopted by this notice (Decision Memorandum) for a full description of the scope of the order.

Ministerial Errors

Section 751(h) of the Act and 19 CFR 351.224(f) define a “ministerial error” as an error in addition, subtraction, or other arithmetic function, clerical error resulting from inaccurate copying, duplication, or the like, and any other similar type of unintentional error which the Secretary considers ministerial. As discussed in Commerce's Ministerial Error Memorandum, Commerce finds that the error alleged by Shandong Shuangwang and certain errors alleged by GITI constitute ministerial errors within the meaning of 19 CFR 351.224(f).⁵

⁵ See Decision Memorandum.

With regard to Shandong Shuangwang, in the Final Results, the company's name, as listed in Appendix II, the list of Non-Selected Companies Under Review, contained a misspelling of “Shandong” as “Shangong.” The correct full name of the company without the misspelling is “Shandong Shuangwang Rubber Co., Ltd.” This notice serves to correct the incorrect exporter company name listed as a non-selected company in the Final Results.

With regard to GITI, we made ministerial errors with regard to calculating the sales denominator for GITI Tire (China) Investment Co., Ltd., calculating government grants, and applying the Adverse Facts Available Rate to the Export Buyer's Credits program.⁶

⁶ Id. for a full discussion of these alleged errors.

In accordance with section 751(h) of the Act and 19 CFR 351.224(e), we are amending the Final Results to correct the ministerial errors. Specifically, we are amending the net subsidy rates for GITI, Cooper (Kunshan) Tire Co., Ltd. (Cooper), Zhongce Rubber Group Company Limited, and for the non-selected companies.⁷ The revised net subsidies rates are provided below.

⁷ Id. at 8. Because we relied on GITI's and Cooper's subsidy rates to calculate the rate for non-selected companies under review, we are revising the rate for non-selected companies under review in these amended final results.

Amended Final Results

As result of correcting the ministerial errors, we determine that that the countervailable subsidy rates for the producers/exporters under review to be as follows:

Company | Subsidy rate (percent ad valorem)
GITI Tire Global Trading Pte. Ltd./GITI Tire (USA) Ltd./GITI Radial Tire (Anhui) Company Ltd. (GITI Anhui Radial)/GITI Tire (Fujian) Company Ltd (GITI Fujian)/GITI Tire (Hualin) Company Ltd. (GITI Hualin) (collectively, GITI) | 15.75
Cooper (Kunshan) Tire Co., Ltd. (Cooper) | 15.10
Zhongce Rubber Group Company Limited | 114.48
Non-Selected Companies Under Review | 15.53

Assessment Rates

Commerce intends to issue assessment instructions to U.S. Customs and Border Protection (CBP) 15 days after the date of publication of these amended final results of review, to liquidate shipments of subject merchandise entered, or withdrawn from warehouse, for consumption, on or after December 1, 2014, through December 31, 2015, at the ad valorem rates listed above.

Commerce also intends to instruct CBP to collect cash deposits of estimated countervailing duties, in the amounts shown above for the companies listed above on shipments of subject merchandise entered, or withdrawn from warehouse, for consumption on or after March 16, 2018, the date of publication of the Final Results. For all non-reviewed firms, we will instruct CBP to collect cash deposits at the most-recent company specific or all-others rate applicable to the company, as appropriate. These cash deposit requirements, when imposed, shall remain in effect until further notice.

Administrative Protective Order

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Disclosure

We intend to disclose the calculations performed for these amended final results to interested parties within five business days of the date of the publication of this notice in accordance with 19 CFR 351.224(b).

We are issuing and publishing these results in accordance with sections 751(h) and 777(i)(1) of the Act, and 19 CFR 351.224(e).

Dated: April 25, 2018.
Christian Marsh,
Deputy Assistant Secretary for Enforcement and Compliance.

[FR Doc. 2018-09285 Filed 5-1-18; 8:45 am]

BILLING CODE 3510-DS-P